GENERAL SERVICES ADMINISTRATION

[OMB Control No. 3090-XXXX; Docket No. 2022-0001; Sequence No. 7]

Information Collection; General Services Administration Regulation; Construction Payrolls and Basic Records

AGENCY: Office of Acquisition Policy, General Services Administration (GSA).

ACTION: Notice of request for comments regarding a new request for an OMB clearance.

SUMMARY: Under the provisions of the Paperwork Reduction Act, the Regulatory Secretariat Division will be submitting to the Office of Management and Budget (OMB) a request to review and approve a new information collection requirement.

DATES: Submit comments on or before July 5, 2022.

ADDRESSES: Submit comments identified by Information Collection 3090-XXXX; Payrolls and Basic Records Clause to: https://www.regulations.gov.

Submit comments via the Federal eRulemaking portal by searching for “Information Collection 3090-XXXX; Payrolls and Basic Records Clause”. Select the link “Submit a Comment” that corresponds with “Information Collection 3090-XXXX; Payrolls and Basic Records Clause”. Follow the instructions provided at the “Submit a Comment” screen. Please include your name, company name (if any), and “Information Collection 3090-XXXX; Payrolls and Basic Records Clause” on your attached document. If your comment cannot be submitted using https://www.regulations.gov, call or email the points of contact in the FOR FURTHER INFORMATION CONTACT section of this document for alternate instructions.

Instructions: Please submit comments only and cite Information Collection 3090-XXXX; Payrolls and Basic Records Clause, in all correspondence related to this collection. Comments received generally will be posted without change to https://www.regulations.gov, including any personal and/or business confidential information provided. To confirm receipt of your comment(s), please check www.regulations.gov, approximately two-to- three days after submission to verify posting.

FOR FURTHER INFORMATION CONTACT: Ms. Johnnie McDowell, Procurement Analyst, General Services Administration, at telephone 202-718-6112 or via email at gsarpolicy@gsa.gov. for clarification of content.

SUPPLEMENTARY INFORMATION:

A. Purpose

The Federal Acquisition Regulation (FAR) Clause 52.222-8 Payrolls and Basic Records requires United States construction contracts in excess of $2,000 to submit weekly for each week in which any contract work is performed a copy of all payrolls to the Contracting Officer. The clause allows contractors to submit the required weekly payroll information using the DOL WH-347 form or any other form desired. GSA is proposing to deviate from the FAR clause to require these construction contractors to use the GSA Electronic Payroll Template and its portal to submit the required weekly payroll data. The proposed revision will increase the efficiency of the weekly payroll certification process for the contractor, GSA and the contractor's employee through the use of a standardized automated process. The current manual process for reviewing weekly certified payroll data requires an enormous amount of labor hours and has a large probability of human error i.e. non-identification or delayed identification of errors in pay for covered workers. Delays in identifying payroll errors are costly to the contractor who will need to pay retroactive wage adjustments and the employee will have suffered reduced economic purchase power due to the error in wages.

B. Annual Reporting Burden

GSA bases the following burden estimates for certified payrolls on SAM.gov reports for Fiscal Year 2021. The report indicated 182 construction contractors for GSA projects were subject to the Davis-Bacon or Related Act. GSA's automation of the data collection process will not increase the existing data collection burden from the DOL Wage and Hour Division (WHD) the Office of Management and Budget (OMB) Information Control No. 1235-0008, Davis-Bacon Certified Payroll or 1235-0018, Records to be kept by Employers—Fair Labor Standards Act.

Respondents: 182 (170 prime contractors plus 12 subcontractors).

Responses per Respondent: 52 (1 for each week of the year).

Total Annual Responses: 9,464 (182 respondents × 52 responses).

Hours per Response: 33 minutes (weighted average of 56 minutes (DOL estimated time to input information plus 1 minute recordkeeping for initial entry) + 31 minutes (estimated time to certify payroll in new system plus 1 minute recordkeeping)).

Total Burden Hours: 5,205 ((9,464 annual responses × 33 minutes)/60 minutes).

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. 3090-XXXX, Payrolls and Basic Records Clause, in all correspondence.

Jeffrey A. Koses,
Senior Procurement Executive, Office of Acquisition Policy, Office of Government-wide Policy.

[FR Doc. 2022-09790 Filed 5-5-22; 8:45 am]

BILLING CODE 6820-61-P